DEPARTMENT OF COMMERCE

International Trade Administration

[A-570-040]

Truck and Bus Tires From the People's Republic of China: Preliminary Affirmative Determinations of Sales at Less Than Fair Value and Critical Circumstances, and Postponement of Final Determination

AGENCY: Enforcement and Compliance, International Trade Administration, Department of Commerce.

SUMMARY: The Department of Commerce (the Department) preliminarily determines that imports of truck and bus tires from the People's Republic of China (the PRC) are being, or are likely to be, sold in the United States at less than fair value (LTFV). The period of investigation (POI) is July 1, 2015, through December 31, 2015. The estimated margins of sales at LTFV are shown in the “Preliminary Determination” section of this notice. Interested parties are invited to comment on this preliminary determination.

DATES: Effective September 6, 2016.

FOR FURTHER INFORMATION CONTACT: Yang Jin Chun or Andre Gziryan, AD/CVD Operations Office I, Enforcement and Compliance, International Trade Administration, U.S. Department of Commerce, 1401 Constitution Avenue NW., Washington, DC 20230; telephone: (202) 482-5760 and (202) 482-2201, respectively.

SUPPLEMENTARY INFORMATION:

Background

The Department initiated this investigation on February 18, 2016.¹ For a complete description of the events that followed the initiation of this investigation, see the Preliminary Decision Memorandum dated concurrently with and hereby adopted by this notice.² A list of topics included in the Preliminary Decision Memorandum is included as Appendix II to this notice. The Preliminary Decision Memorandum is a public document and is made available to the public via Enforcement and Compliance's Antidumping and Countervailing Duty Centralized Electronic Service System (ACCESS). ACCESS is available to registered users at http://access.trade.gov, and to all parties in the Department's Central Records Unit, room B8024 of the main Department of Commerce building. In addition, a complete version of the Preliminary Decision Memorandum can be accessed directly on the internet at http://enforcement.trade.gov/frn/.

¹ See Truck and Bus Tires From the People's Republic of China: Initiation of Antidumping Duty Investigation, 81 FR 9434 (February 25, 2016) (Initiation Notice).

² See Memorandum from Associate Deputy Assistant Secretary Gary Taverman to Assistant Secretary Paul Piquado entitled, “Truck and Bus Tires from the People's Republic of China: Decision Memorandum for Preliminary Affirmative Determinations of Sales at Less Than Fair Value and Critical Circumstances, and Postponement of Final Determination” dated concurrently with and hereby adopted by this notice (Preliminary Decision Memorandum).

Scope of the Investigation

The products covered by this investigation are truck and bus tires. For a full description of the scope of this investigation, see the “Scope of the Investigation” in Appendix I of this notice.

Scope Comments

In accordance with the Preamble to the Department's regulations,³ the Initiation Notice set aside a period of time for parties to raise issues regarding product coverage (i.e., scope).⁴ Certain interested parties commented on the scope of the investigation, as it appeared in the Initiation Notice. For a summary of the product coverage comments and rebuttal responses submitted to the record, and an accompanying discussion and analysis of all comments timely received, see the Preliminary Scope Decision Memorandum issued concurrently with this notice.⁵

³ See Antidumping Duties; Countervailing Duties, 62 FR 27296, 27323 (May 19, 1997) (Preamble).

⁴ See Initiation Notice, 81 FR at 9435.

⁵ See Memorandum entitled “Truck and Bus Tires from the People's Republic of China: Preliminary Scope Decision Memorandum,” dated concurrently with this notice (Preliminary Scope Decision Memorandum).

Postponement of Deadline for the Preliminary Determination

The Department published the notice of postponement of preliminary determination of this investigation on June 2, 2016.⁶ Pursuant to sections 733(c)(1)(B)(i) and (ii) of the Tariff Act of 1930, as amended (the Act), we postponed the preliminary determination by 50 days.⁷ As a result of the postponement, the deadline for the preliminary determination of this investigation is August 26, 2016.

⁶ See Truck and Bus Tires from the People's Republic of China: Postponement of Preliminary Determinations of Antidumping Duty Investigation, 81 FR 35332 (June 2, 2016).

⁷ Id.

Methodology

The Department is conducting this investigation in accordance with section 731 of the Act. We calculated export prices in accordance with section 772 of the Act. Because the PRC is a non-market economy, within the meaning of section 771(18) of the Act, we calculated normal value (NV) in accordance with section 773(c) of the Act. For a full discussion of the Department's methodology, see the Preliminary Decision Memorandum.

Affirmative Preliminary Determination of Critical Circumstances

On August 2, 2016, in accordance with section 733(e)(1) of the Act and 19 CFR 351.206, the petitioner ⁸ timely filed an allegation that critical circumstances exist with respect to all imports of truck and bus tires from the PRC.⁹ We preliminarily determine that critical circumstances exist for mandatory respondent Prinx Chengshan (Shandong) Tire Co., Ltd. (PCT), the non-selected separate rate respondents, and the PRC-wide entity.¹⁰

⁸ United Steel, Paper and Forestry, Rubber, Manufacturing, Energy, Allied Industrial and Service Workers International Union, AFL-CIO-CLC (the petitioner).

⁹ See Letter from the petitioner, “Truck and Bus from the People's Republic of China (A-570-040): Petitioner's Critical Circumstances Allegation,” dated August 2, 2016.

¹⁰ See Preliminary Decision Memorandum at 5-9.

Combination Rates

In the Initiation Notice, the Department stated that it would calculate combination rates for the respondents that are eligible for a separate rate in this investigation.¹¹ Policy Bulletin 05.1 describes this practice.¹²

¹¹ See Initiation Notice, 81 FR at 9438-39.

¹² See Enforcement and Compliance's Policy Bulletin No. 05.1, regarding, “Separate-Rates Practice and Application of Combination Rates in Antidumping Investigations involving Non-Market Economy Countries,” dated April 5, 2005 (Policy Bulletin 05.1), available on the Department's Web site at http://enforcement.trade.gov/policy/bull05-1.pdf.

Preliminary Determination

The Department preliminarily determines that the following weighted-average dumping margins exist:

Exporter | Producer | Weighted average margin (%)
Prinx Chengshan (Shandong) Tire Co., Ltd | Prinx Chengshan (Shandong) Tire Co., Ltd | 20.87
Actyon Tyre Resources Co., Limited | Chao Yang Long March Tyre Co., Ltd | 20.87
Actyon Tyre Resources Co., Limited | Shandong Haohua Tires Co., Ltd | 20.87
Actyon Tyre Resources Co., Limited | Shandong Longyue Rubber Co., Ltd | 20.87
Aosen Tire Co., Ltd | Qingdao Taifa Group Co., Ltd | 20.87
Aosen Tire Co., Ltd | Shandong Chuanghua Tire Co., Ltd | 20.87
Aosen Tire Co., Ltd | Shandong Hawk International Rubber Industry Co., Ltd | 20.87
Aosen Tire Co., Ltd | Shandong Hugerubber Co., Ltd | 20.87
Aosen Tire Co., Ltd | Shandong Yongsheng Rubber Group Co., Ltd | 20.87
Aosen Tire Co., Ltd | Shandong Zhentai Group Co., Ltd | 20.87
Beijing BOE Commerce Co., Ltd | China National Tyre & Rubber Guilin Co., Ltd | 20.87
Beijing BOE Commerce Co., Ltd | Shandong Hawk International Rubber Industry Co., Ltd | 20.87
Best Choice International Trade Co., Ltd | Aeolus Tyre Co., Ltd | 20.87
Best Choice International Trade Co., Ltd | Qingdao Yellow Sea Rubber Co., Ltd | 20.87
Best Choice International Trade Co., Ltd | Shan Dong Kaixuan Rubber Co., Ltd | 20.87
Best Choice International Trade Co., Ltd | Sichuan Kalevei Technology Co., Ltd | 20.87
Best Choice International Trade Co., Ltd | ZC Rubber Group Co., Ltd | 20.87
Bestyre International Industrial Limited | Chaoyang Long March Tyre Co., Ltd | 20.87
Bestyre International Industrial Limited | Chaoyang Long March Tyre New Co., Ltd | 20.87
BOE Commerce Co., Ltd | Aeolus Tyre Co., Ltd | 20.87
BOE Commerce Co., Ltd | China National Tyre & Rubber Guilin Co., Ltd | 20.87
BOE Commerce Co., Ltd | Shandong Anchi Tyres Co., Ltd | 20.87
BOE Commerce Co., Ltd | Shandong Hawk International Rubber Industry Co., Ltd | 20.87
BOE Commerce Co., Ltd | Shandong Hengyu Rubber Co., Ltd | 20.87
BOE Commerce Co., Ltd | Shandong Hengyu Science & Technology Co., Ltd | 20.87
BOE Commerce Co., Ltd | Shandong Jinyu Tyre Co., Ltd | 20.87
BOE Commerce Co., Ltd | Zhucheng Guoxin Rubber Co., Ltd | 20.87
Briway Tire Co., Ltd | Shandong Kaixuan Rubber Co., Ltd | 20.87
Briway Tire Co., Ltd | Shandong Province Sanli Tire Manufactured Co., Ltd | 20.87
Briway Tire Co., Ltd | Shandong Vheal Group Co., Ltd | 20.87
Briway Tire Co., Ltd | Shandong Wanda Boto Tyre Co., Ltd | 20.87
Briway Tire Co., Ltd | Shandong Yinbao Tyre Group Co., Ltd | 20.87
Briway Tire Co., Ltd | Shandong Yuelong Group | 20.87
Briway Tire Co., Ltd | Sichuan Tyre & Rubber Co., Ltd | 20.87
Briway Tire Co., Ltd | Weifang Shunfuchang Rubber and Plastic Products Co., Ltd | 20.87
Briway Tire Co., Ltd | Sichuan Kalevei Technology Co., Ltd | 20.87
Chonche Auto Double Happiness Tyre Corp. Ltd | Chonche Auto Double Happiness Tyre Corp. Ltd | 20.87
Chongqing Hankook Tire Co., Ltd | Chongqing Hankook Tire Co., Ltd | 20.87
Cooper Tire (China) Investment Co., Ltd | Qingdao Ge Rui Da Rubber Co., Ltd | 20.87
Daking Industrial Co., Limited | Shandong Huasheng Rubber Co., Ltd | 20.87
Fleming Limited | Qingdao Doublestar Tire Industrial Co., Ltd | 20.87
Fleming Limited | Qingdao Yellow Sea Rubber Co., Ltd | 20.87
Fleming Limited | Shandong Wanshine Tire Co., Ltd | 20.87
Fleming Limited | Shandong Yinbao Tyre Group Co., Ltd | 20.87
Giti Tire (Anhui) Company Ltd | Giti Tire (Anhui) Company Ltd | 20.87
Giti Tire (Anhui) Company Ltd | Giti Tire (Fujian) Company Ltd | 20.87
Giti Tire (Anhui) Company Ltd | Giti Tire (Yinchuan) Company Ltd | 20.87
Giti Tire (Fujian) Company Ltd | Giti Tire (Anhui) Company Ltd | 20.87
Giti Tire (Fujian) Company Ltd | Giti Tire (Fujian) Company Ltd | 20.87
Giti Tire (Fujian) Company Ltd | Giti Tire (Yinchuan) Company Ltd | 20.87
Giti Tire (Yinchuan) Company Ltd | Giti Tire (Anhui) Company Ltd | 20.87
Giti Tire (Yinchuan) Company Ltd | Giti Tire (Fujian) Company Ltd | 20.87
Giti Tire (Yinchuan) Company Ltd | Giti Tire (Yinchuan) Company Ltd | 20.87
Giti Tire Global Trading Pte. Ltd | Giti Tire (Anhui) Company Ltd | 20.87
Giti Tire Global Trading Pte. Ltd | Giti Tire (Fujian) Company Ltd | 20.87
Giti Tire Global Trading Pte. Ltd | Giti Tire (Yinchuan) Company Ltd | 20.87
Goodyear Dalian Tire Co., Ltd | Goodyear Dalian Tire Co., Ltd | 20.87
Hongkong Tiancheng Investment & Trading Co., Limited | Shandong Linglong Tyre Co., Ltd | 20.87
Hongtyre Group Co. | Prinx Chengshan (Shandong) Tire Co., Ltd | 20.87
Hongtyre Group Co. | Shandong Bayi Tyre Manufacture Co., Ltd | 20.87
Jiangsu General Science Technology Co., Ltd | Jiangsu General Science Technology Co., Ltd | 20.87
Jiangsu Hankook Tire Co., Ltd | Jiangsu Hankook Tire Co., Ltd | 20.87
Koryo International Industrial Limited | Chaoyang Long March Tyre Co., Ltd | 20.87
Koryo International Industrial Limited | Shandong Anchi Tyres Co., Ltd | 20.87
Koryo International Industrial Limited | Shandong Hugerubber Co., Ltd | 20.87
Koryo International Industrial Limited | Shandong Sangong Rubber Co., Ltd | 20.87
Koryo International Industrial Limited | Shandong Wanshine Tire Co., Ltd | 20.87
Koryo International Industrial Limited | Sichuan Tyre & Rubber Co., Ltd | 20.87
Kumho Tire Co., Inc. | Nanjing Kumho Tire Co., Ltd | 20.87
Longkou Xinglong Tyre Co., Ltd | Longkou Xinglong Tyre Co., Ltd | 20.87
Maxon Int'l Co., Limited | Shandong Anchi Tyres Co., Ltd | 20.87
Maxon Int'l Co., Limited | Triangle Tyre Co., Ltd | 20.87
Megalith Industrial Group Co., Ltd | Ningxia Shenzhou Tire Co., Ltd | 20.87
Megalith Industrial Group Co., Ltd | Shaanxi Yanchang Petroleum Group Rubber Co., Ltd | 20.87
Megalith Industrial Group Co., Ltd | Shandong Hawk International Rubber Industry Co., Ltd | 20.87
Megalith Industrial Group Co., Ltd | Shandong Huasheng Rubber Co., Ltd | 20.87
Megalith Industrial Group Co., Ltd | Shandong Kaixuan Rubber Co., Ltd | 20.87
Megalith Industrial Group Co., Ltd | Sichuan Kalevei Technology Co., Ltd | 20.87
Megalith Industrial Group Co., Ltd | Xingyuan Tire Group Co., Ltd | 20.87
Michelin Asia-Pacific Export (HK) Limited | Michelin Shenyang Tire Co., Ltd | 20.87
Newland Tyre Int'l Limited | Shandong Hawk International Rubber Industry Co., Ltd | 20.87
Noble Manufacture Co., Ltd | Qingdao Hongchi Tyre Co., Ltd | 20.87
Philixx Tyres and Accessories Limited | Shandong Huasheng Rubber Co., Ltd | 20.87
Philixx Tyres and Accessories Limited | Xingyuan Tire Group Co., Ltd | 20.87
Philixx Tyres and Accessories Limited | Shandong Vheal Group Co., Ltd | 20.87
Q&J Industrial Group Co., Limited | Chaoyang Langma Co., Ltd | 20.87
Q&J Industrial Group Co., Limited | Qiangdao Huanghai Rubber Co., Ltd | 20.87
Q&J Industrial Group Co., Limited | Shandong Hongsheng Rubber Co., Ltd | 20.87
Q&J Industrial Group Co., Limited | Shandong Huasheng Rubber Co., Ltd | 20.87
Q&J Industrial Group Co., Limited | Shandong Xingyuan Group | 20.87
Q&J Industrial Group Co., Limited | Sichuan Kailiwei Technology Co., Ltd | 20.87
Qingdao Au-Shine Group Co., Ltd | Shandong Gulun Rubber Co., Ltd | 20.87
Qingdao Champion International Trading Co., Ltd | Shandong Cocrea Tyre Co., Ltd | 20.87
Qingdao Champion International Trading Co., Ltd | Shandong Huasheng Rubber Co., Ltd | 20.87
Qingdao Champion International Trading Co., Ltd | Zhucheng Sinoroad Rubber Co., Ltd | 20.87
Qingdao Fudong Tyre Co., Ltd | Qingdao Fudong Tyre Co., Ltd | 20.87
Qingdao Fudong Tyre Co., Ltd | Qingdao Xiyingmen Double Camel Tyre Co., Ltd | 20.87
Qingdao Fullrun Tyre Corp. Ltd | Aeolus Tyre Co., Ltd | 20.87
Qingdao Fullrun Tyre Corp. Ltd | Chaoyang Long March Tyre Co., Ltd | 20.87
Qingdao Fullrun Tyre Corp. Ltd | Chonche Auto Double Happiness Tyre Corp. Ltd | 20.87
Qingdao Fullrun Tyre Corp. Ltd | Double Coin Holdings Ltd | 20.87
Qingdao Fullrun Tyre Corp. Ltd | Hangzhou Zhongce Rubber Co., Ltd | 20.87
Qingdao Fullrun Tyre Corp. Ltd | Qingdao Yellow Sea Rubber Co., Ltd | 20.87
Qingdao Fullrun Tyre Corp. Ltd | Qingdao Doublestar Tire Industrial Co., Ltd | 20.87
Qingdao Fullrun Tyre Corp. Ltd | Shandong Xingyuan International Trading Co., Ltd | 20.87
Qingdao Ge Rui Da Rubber Co., Ltd | Qingdao Ge Rui Da Rubber Co., Ltd | 20.87
Qingdao Honghua Tyre Factory | Qingdao Honghua Tyre Factory | 20.87
Qingdao Jinhaoyang International Co., Ltd | Double Coin Holdings Ltd | 20.87
Qingdao Jinhaoyang International Co., Ltd | Qingdao Fudong Tyre Co., Ltd | 20.87
Qingdao Jinhaoyang International Co., Ltd | Shaanxi Yanchang Petroleum Group Rubber Co., Ltd | 20.87
Qingdao Jinhaoyang International Co., Ltd | Zhucheng Guoxin Rubber Co., Ltd | 20.87
Qingdao Keter International Co., Ltd | Beijing Landy Tire & Tech Co., Ltd | 20.87
Qingdao Keter International Co., Ltd | Chaoyang Long March Tyre Co., Ltd | 20.87
Qingdao Keter International Co., Ltd | Chonche Auto Double Happiness Tyre Corp. Ltd | 20.87
Qingdao Keter International Co., Ltd | Deruibo Tire Co., Ltd | 20.87
Qingdao Keter International Co., Ltd | Qingdao Doublestar Tire Industrial Co., Ltd | 20.87
Qingdao Keter International Co., Ltd | Shandong Huasheng Rubber Co., Ltd | 20.87
Qingdao Keter International Co., Ltd | Shandong Huge Rubber Co., Ltd | 20.87
Qingdao Keter International Co., Ltd | Shandong Kaixuan Rubber Co., Ltd | 20.87
Qingdao Lakesea Tyre Co., Ltd | Chaoyang Long March Tyre Co., Ltd | 20.87
Qingdao Lakesea Tyre Co., Ltd | Chonche Auto Double Happiness Tyre Corp. Ltd | 20.87
Qingdao Lakesea Tyre Co., Ltd | Doublestar Dongfeng Tyre Co., Ltd | 20.87
Qingdao Lakesea Tyre Co., Ltd | Qingdao Doublestar Tire Industrial Co., Ltd | 20.87
Qingdao Lakesea Tyre Co., Ltd | Qingdao Yellow Sea Rubber Co., Ltd | 20.87
Qingdao Lakesea Tyre Co., Ltd | Shandong Kaixuan Rubber Co., Ltd | 20.87
Qingdao Lakesea Tyre Co., Ltd | Shandong Xingyuan International Trading Co., Ltd | 20.87
Qingdao Lakesea Tyre Co., Ltd | Shandong Yinbao Tyre Group Co., Ltd | 20.87
Qingdao Lakesea Tyre Co., Ltd | Sichuan Kalevei Technology Co., Ltd | 20.87
Qingdao Nama Industrial Co., Ltd | Chaoyang Long March Tyre Co., Ltd | 20.87
Qingdao Nama Industrial Co., Ltd | China National Tyre And Rubber Guilin Co., Ltd | 20.87
Qingdao Nama Industrial Co., Ltd | Ningxia Shenzhou Tire Co., Ltd | 20.87
Qingdao Nama Industrial Co., Ltd | Qingdao Doublestar Tire Industrial Co., Ltd | 20.87
Qingdao Nama Industrial Co., Ltd | Shandong Hawk International Rubber Industry Co., Ltd | 20.87
Qingdao Nama Industrial Co., Ltd | Shandong Hengfeng Rubber & Plastic Co., Ltd | 20.87
Qingdao Nama Industrial Co., Ltd | Shandong Hengyu Science & Technology Co., Ltd | 20.87
Qingdao Nama Industrial Co., Ltd | Shandong Huasheng Rubber Co., Ltd | 20.87
Qingdao Nama Industrial Co., Ltd | Shandong Kaixuan Rubber Co., Ltd | 20.87
Qingdao Nama Industrial Co., Ltd | Shandong Wanda Boto Tyre Co., Ltd | 20.87
Qingdao Nama Industrial Co., Ltd | Shandong Wanshine Tyre Co., Ltd | 20.87
Qingdao Odyking Tyre Co., Ltd | Weifang Shunfuchang Rubber And Plastic Products Co., Ltd | 20.87
Qingdao Qianzhen Tyre Co., Ltd | Qingdao Qianzhen Tyre Co., Ltd | 20.87
Qingdao Qizhou Rubber Co., Ltd | Qingdao Qizhou Rubber Co., Ltd | 20.87
Qingdao Rhino International Co., Ltd | Dongying JinZheng Tyre Co., Ltd | 20.87
Qingdao Rhino International Co., Ltd | Qingdao Aonuo Group | 20.87
Qingdao Rhino International Co., Ltd | Shandong Jinwangda Tire Co., Ltd | 20.87
Qingdao Rhino International Co., Ltd | Weihai Ping'an Tyre Co., Ltd | 20.87
Qingdao Taihao Tyre Co., Ltd | Qingdao Taihao Tyre Co., Ltd | 20.87
Qingdao Tanco Tire Industrial & Commercial Co., Ltd | Hebei Tianrui Rubber Co., Ltd | 20.87
Qingdao Tanco Tire Industrial & Commercial Co., Ltd | Shandong Hawk International Rubber Co., Ltd | 20.87
Qingdao Tanco Tire Industrial & Commercial Co., Ltd | Xingyuan Tires Group | 20.87
Qingdao Yellow Sea Rubber Co., Ltd | Qingdao Yellow Sea Rubber Co., Ltd | 20.87
Qingdao Yongdao International Trade Co., Ltd | Aeolus Tyre Co., Ltd | 20.87
Qingdao Yongdao International Trade Co., Ltd | Bayi Rubber Co., Ltd | 20.87
Qingdao Yongdao International Trade Co., Ltd | Chonche Auto Double Happiness Tyre Corp. Ltd | 20.87
Qingdao Yongdao International Trade Co., Ltd | Double Coin Holdings Ltd | 20.87
Qingdao Yongdao International Trade Co., Ltd | Guizhou Tyre Co., Ltd | 20.87
Qingdao Yongdao International Trade Co., Ltd | Hangzhou Zhongce Rubber Co., Ltd | 20.87
Qingdao Yongdao International Trade Co., Ltd | Qingdao Doublestar Tire Industrial Co., Ltd | 20.87
Qingdao Yongdao International Trade Co., Ltd | Shandong Haohua Tire Co., Ltd | 20.87
Qingdao Yongdao International Trade Co., Ltd | Shandong Hawk International Rubber Industry Co., Ltd | 20.87
Qingdao Yongdao International Trade Co., Ltd | Shandong Hengfeng Rubber and Plastic Co., Ltd | 20.87
Qingdao Yongdao International Trade Co., Ltd | Shandong Hengyu Science & Technology Co., Ltd | 20.87
Qingdao Yongdao International Trade Co., Ltd | Shandong Huasheng Rubber Co., Ltd | 20.87
Qingdao Yongdao International Trade Co., Ltd | Shandong Kaixuan Rubber Co., Ltd | 20.87
Qingdao Yongdao International Trade Co., Ltd | Shandong Wosen Rubber Co., Ltd | 20.87
Qingdao Yongdao International Trade Co., Ltd | Shandong Yongtai Group Co., Ltd | 20.87
Qingdao Yongdao International Trade Co., Ltd | Shengtai Group Co., Ltd | 20.87
Qingdao Yongdao International Trade Co., Ltd | South China Tire & Rubber Co., Ltd | 20.87
Qingdao Yongdao International Trade Co., Ltd | Weifang Goldshield Tire Co., Ltd | 20.87
Qingdao Yongdao International Trade Co., Ltd | Weifang Shunfuchang Rubber & Plastic Products Co., Ltd | 20.87
Qingdao Yongdao International Trade Co., Ltd | Xingyuan Tire Group Co., Ltd | 20.87
Rodeo Tire Ltd | Shandong Province Sanli Tire Manufactured Co., Ltd | 20.87
Rodeo Tire Ltd | Sichuan Tyre & Rubber Co., Ltd | 20.87
Rover Tire Co., Ltd | Aeolus Tyre Co., Ltd | 20.87
Rover Tire Co., Ltd | Dongying Fangxing Rubber Co., Ltd | 20.87
Rover Tire Co., Ltd | Double Coin Holdings Ltd | 20.87
Rover Tire Co., Ltd | Qingdao Doublestar Tire Industrial Co., Ltd | 20.87
Rover Tire Co., Ltd | Shandong Hengyu Science & Technology Co., Ltd | 20.87
Rover Tire Co., Ltd | Shandong Huasheng Rubber Co., Ltd | 20.87
Rover Tire Co., Ltd | Shandong Kaixuan Rubber Co., Ltd | 20.87
Rover Tire Co., Ltd | Shandong Longyue Rubber Co., Ltd | 20.87
Rover Tire Co., Ltd | Shandong Yongsheng Rubber Group Co., Ltd | 20.87
Rover Tire Co., Ltd | Wanli Group Trade Limited | 20.87
Rover Tire Co., Ltd | Zhongce Rubber Group Company Limited | 20.87
Sailun Jinyu Group Co., Ltd | Sailun Jinyu Group Co., Ltd | 20.87
Sailun Jinyu Group Co., Ltd | Shenyang Peace Radial Tyre Manufacturing Co., Ltd | 20.87
Shandong Anchi Tyres Co., Ltd | Shandong Anchi Tyres Co., Ltd | 20.87
Shandong Haohua Tire Co., Ltd | Shandong Haohua Tire Co., Ltd | 20.87
Shandong Haoyu Rubber Co., Ltd | Shandong Haoyu Rubber Co., Ltd | 20.87
Shandong Hawk International Rubber Industry Co., Ltd | Shandong Hawk International Rubber Industry Co., Ltd | 20.87
Shandong Hengfeng Rubber & Plastic Co., Ltd | Shandong Hengfeng Rubber & Plastic Co., Ltd | 20.87
Shandong Hengyu Science & Technology Co., Ltd | Shandong Hengyu Science & Technology Co., Ltd | 20.87
Shandong Hengyu Science & Technology Co., Ltd | Shandong Hengyu Rubber Co., Ltd | 20.87
Shandong Homerun Tires Co., Ltd | Good Friend Tyre Co., Ltd | 20.87
Shandong Homerun Tires Co., Ltd | Shandong Kaixuan Rubber Co., Ltd | 20.87
Shandong Homerun Tires Co., Ltd | Shandong Wosen Rubber Co., Ltd | 20.87
Shandong Homerun Tires Co., Ltd | Shandong Yongsheng Rubber Group Co., Ltd | 20.87
Shandong Homerun Tires Co., Ltd | Weifang Shunfuchang Rubber and Plastic Products Co., Ltd | 20.87
Shandong Huasheng Rubber Co., Ltd | Shandong Huasheng Rubber Co., Ltd | 20.87
Shandong Hugerubber Co., Ltd | Shandong Hugerubber Co., Ltd | 20.87
Shandong Huitong Tyre Co., Ltd | Shandong Huitong Tyre Co., Ltd | 20.87
Shandong Kaixuan Rubber Co., Ltd | Shandong Kaixuan Rubber Co., Ltd | 20.87
Shandong Linglong Tyre Co., Ltd | Shandong Linglong Tyre Co., Ltd | 20.87
Shandong O'Green Tyres Co., Ltd | Shandong O'Green Tyres Co., Ltd | 20.87
Shandong Province Sanli Tire Manufactured Co., Ltd | Shandong Province Sanli Tire Manufactured Co., Ltd | 20.87
Shandong Sangong Rubber Co., Ltd | Shandong Sangong Rubber Co., Ltd | 20.87
Shandong Transtone Tyre Co., Ltd | Shandong Haohua Tire Co., Ltd | 20.87
Shandong Transtone Tyre Co., Ltd | Shandong Hongyu Rubber Co., Ltd | 20.87
Shandong Transtone Tyre Co., Ltd | Shandong Kaixuan Rubber Co., Ltd | 20.87
Shandong Transtone Tyre Co., Ltd | Weifang Yuelong Rubber Co., Ltd | 20.87
Shandong Vheal Group Co., Ltd | Shandong Vheal Group Co., Ltd | 20.87
Shandong Wanda Boto Tyre Co., Ltd | Shandong Wanda Boto Tyre Co., Ltd | 20.87
Shandong Wanshine Tire Co., Ltd | Shandong Wanshine Tire Co., Ltd | 20.87
Shandong Xingyuan Tire Group Co., Ltd | Shandong Xingyuan Tire Group Co., Ltd | 20.87
Shandong Yinbao Tyre Group Co., Ltd | Shandong Yinbao Tyre Group Co., Ltd | 20.87
Shandong Yongfeng Tyres Co., Ltd | Shandong Yongfeng Tyres Co., Ltd | 20.87
Shandong Yongsheng Rubber Group Co., Ltd | Shandong Yongsheng Rubber Group Co., Ltd | 20.87
Shandong Yongtai Group Co., Ltd | Shandong Yongtai Group Co., Ltd | 20.87
Shanghai Durotyre International Trading Co., Ltd | Chaoyang Long March Tyre Co., Ltd | 20.87
Shanghai Durotyre International Trading Co., Ltd | Double Happiness Tyre Industrial Co., Ltd | 20.87
Shengtai Group Co., Ltd | Shengtai Group Co., Ltd | 20.87
Shengtai Group Co., Ltd | Shandong Zhushenghua Rubber Co., Ltd | 20.87
Shenzhen Zhongjin Import & Export Co., Ltd | Hefei Wanli Tire Co., Ltd | 20.87
Shenzhen Zhongjin Import & Export Co., Ltd | South China Tire & Rubber Co. | 20.87
Shenzhen Zhongjin Import & Export Co., Ltd | Weifang Shunfuchang Rubber And Plastics Products Co., Ltd | 20.87
Shifeng Juxing Tire Co., Ltd | Shifeng Juxing Tire Co., Ltd | 20.87
Shuma Tyre International (Qingdao) Co., Ltd | Shandong Wanshine Tire Co., Ltd | 20.87
Sichuan Kalevei Technology Co., Ltd | Sichuan Kalevei Technology Co., Ltd | 20.87
Sinotyre International Group Co., Ltd | Dongying City Fangxing Rubber Co., Ltd | 20.87
Sinotyre International Group Co., Ltd | Shandong Hawk International Rubber Industry Co., Ltd | 20.87
Sportrak Tire Group Limited | Bayi Rubber Co., Ltd | 20.87
Sportrak Tire Group Limited | Shaanxi Yanchang Petroleum Group Rubber Co., Ltd | 20.87
Sportrak Tire Group Limited | Shandong Hawk International Rubber Industry Co., Ltd | 20.87
Tianjin Leviathan International Trade Co., Ltd | NDI Tire (Qingdao) Co., Ltd | 20.87
Tianjin Leviathan International Trade Co., Ltd | Qingdao Nama Industrial Co., Ltd | 20.87
Tianjin Leviathan International Trade Co., Ltd | Shandong Haohua Tire Co., Ltd | 20.87
Tianjin Leviathan International Trade Co., Ltd | Shandong Hawk International Rubber Industry Co., Ltd | 20.87
Tianjin Leviathan International Trade Co., Ltd | Xingyuan Tire Group Co., Ltd | 20.87
Top Tyre Industry Co., Limited | Shandong Hawk International Rubber Industry Co., Ltd | 20.87
Toyo Tire (Zhucheng) Co., Ltd | Toyo Tire (Zhucheng) Co., Ltd | 20.87
Triangle Tyre Co., Ltd | Triangle Tyre Co., Ltd | 20.87
Tyrechamp Group Co., Limited | South China Tire & Rubber Co., Ltd | 20.87
Tyrechamp Group Co., Limited | Zhongce Rubber Group Company Limited | 20.87
Wanli Group Trade Limited | South China Tire & Rubber Co., Ltd, | 20.87
Weifang Shunfuchang Rubber And Plastic Products Co., Ltd | Weifang Shunfuchang Rubber And Plastic Products Co., Ltd | 20.87
Weihai Ping'an Tyre Co., Ltd | Weihai Ping'an Tyre Co., Ltd | 20.87
Weihai Zhongwei Rubber Co., Ltd | Weihai Zhongwei Rubber Co., Ltd | 20.87
Wendeng Sanfeng Tyre Co., Ltd | Wendeng Sanfeng Tyre Co., Ltd | 20.87
Xuzhou Xugong Tyres Co., Ltd | Xuzhou Xugong Tyres Co., Ltd | 20.87
Xuzhou Xugong Tyres Co., Ltd | Armour Rubber Company Ltd | 20.87
Yokohama Rubber Co., Ltd | Suzhou Yokohama Tire Co., Ltd | 20.87
Yongsheng Group Co., Ltd | Shandong Yongsheng Rubber Group Co., Ltd | 20.87
Zhongce Rubber Group Co., Ltd | Zhongce Rubber Group Co., Ltd | 20.87
Zhucheng Guoxin Rubber Co., Ltd | Zhucheng Guoxin Rubber Co., Ltd | 20.87
PRC-Wide Entity |  | 22.57

As detailed in the Preliminary Decision Memorandum, Double Coin Holdings Ltd., a mandatory respondent in this investigation, did not demonstrate that it was entitled to a separate rate. Accordingly, we consider this company to be part of the PRC-wide entity.

Suspension of Liquidation

In accordance with sections 733(e)(2)(A) of the Act, we will direct U.S. Customs and Border Protection (CBP) to suspend liquidation of all entries of truck and bus tires from the PRC, as described in Appendix I, that are entered, or withdrawn from warehouse, for consumption on or after 90 days prior to the date of publication of this notice in the Federal Register, and to require a cash deposit for such entries.

Pursuant to 19 CFR 351.205(d), the Department will instruct CBP to require a cash deposit ¹³ equal to the weighted-average amount by which NV exceeds U.S. price as follows: (1) The cash deposit rate for the exporter/producer combinations listed in the table above will be the rate identified in the table; (2) for all combinations of PRC exporters/producers of merchandise under consideration that have not received their own separate rate above, the cash-deposit rate will be the cash deposit rate established for the PRC-wide entity; and (3) for all non-PRC exporters of merchandise under consideration which have not received their own separate rate above, the cash-deposit rate will be the cash deposit rate applicable to the PRC exporter/producer combination that supplied that non-PRC exporter. These suspensions of liquidation instructions will remain in effect until further notice.

¹³ See Modification of Regulations Regarding the Practice of Accepting Bonds During the Provisional Measures Period in Antidumping and Countervailing Duty Investigations, 76 FR 61042 (October 3, 2011).

With respect to PCT, the non-selected respondents eligible for a separate rate, and the PRC-wide entity, we find that export subsidies constitute 0.41 percent ¹⁴ of the preliminarily calculated countervailing duty rate in the concurrent countervailing duty investigation. Thus, we will offset the rate of 20.87 percent for PCT and the non-selected respondents eligible for a separate rate and the rate of 22.57 percent for the PRC-wide entity by countervailing duty rate attributable to export subsidies, i.e., 0.41 percent, to calculate the cash deposit rate for this investigation. Accordingly, the cash deposit rates will be 20.46 percent for PCT and the non-selected respondents eligible for a separate rate and 22.16 percent for the PRC-wide entity.

¹⁴ The Department preliminarily determined that Export Seller's Credit from the Export-Import Bank of China was export specific and, from this program, Double Coin and Guizhou Tyre Co., Ltd., respectively received countervailable subsidies of 0.40 percent ad valorem and 0.41 percent ad valorem. See Truck and Bus Tires From the People's Republic of China: Preliminary Affirmative Countervailing Duty Determination, Preliminary Affirmative Critical Circumstances Determination, in Part, and Alignment of Final Determination With Final Antidumping Determination, 81 FR 43577 (July 5, 2016), and accompanying Preliminary Decision Memorandum at 29. We simple-averaged these two nearly identical export subsidy rates and calculated 0.41 percent (0.405 percent rounded up) for purposes of adjusting the cash deposit rate in this investigation. See Preliminary Decision Memorandum at 30-31 for more details.

Disclosure

We intend to disclose the calculations performed to parties in this proceeding within five days after public announcement of the preliminary determination in accordance with 19 CFR 351.224(b).

Verification

As provided in section 782(i) of the Act, we intend to verify information relied upon in making our final determination.

Public Comment

Case briefs or other written comments may be submitted to the Assistant Secretary for Enforcement and Compliance no later than seven days after the date on which the final verification report is issued in this proceeding and rebuttal briefs, limited to issues raised in case briefs, may be submitted no later than five days after the deadline date for case briefs.¹⁵ Pursuant to 19 CFR 351.309(c)(2) and (d)(2), parties who submit case briefs or rebuttal briefs in this proceeding are encouraged to submit with each argument: (1) A statement of the issue; (2) a brief summary of the argument; and (3) a table of authorities.

¹⁵ See 19 CFR 351.309. See also 19 CFR 351.303 (for general filing requirements).

Pursuant to 19 CFR 351.310(c), interested parties who wish to request a hearing must submit a written request to the Assistant Secretary for Enforcement and Compliance, U.S. Department of Commerce, filed electronically using ACCESS. An electronically filed document must be received successfully in its entirety by the Department's electronic records system, ACCESS, by 5:00 p.m. Eastern Time, within 30 days after the date of publication of this notice.¹⁶ Hearing requests should contain the party's name, address, and telephone number, the number of participants, and a list of the issues parties intend to present at the hearing. If a request for a hearing is made, the Department intends to hold the hearing at the U.S. Department of Commerce, 1401 Constitution Avenue NW., Washington, DC 20230, at a time and location to be determined. Parties should confirm by telephone the date, time, and location of the hearing two days before the scheduled date.

¹⁶ See 19 CFR 351.310(c).

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by petitioners. Requests by respondents for postponement of a final antidumping determination must be accompanied by a request for extension of provisional measures from a four-month period to a period not more than six months in duration.¹⁷

¹⁷ See 19 CFR 351.210(e)(2).

Pursuant to 19 CFR 351.210(e), we received requests from certain respondents that the Department postpone the final determination and that provisional measures be extended to a period not to exceed six months.¹⁸

¹⁸ See Letter from PCT, “Truck and Bus Tires from China: Extension Request for Final Determination by Prinx Chengshan (Shandong) Tire Co., Ltd.,” dated August 25, 2016, and Letter from Double Coin Holdings Ltd., “Double Coin's Request to Extend the Final Determination,” dated August 26, 2016.

In accordance with section 735(a)(2)(A) of the Act and 19 CFR 351.210(b)(2)(ii), because (1) our preliminary determination is affirmative; (2) the requesting exporters account for a significant proportion of exports of the subject merchandise; ¹⁹ and (3) no compelling reasons for denial exist, we are postponing the final determination and extending the provisional measures from a four-month period to a period not greater than six months. Accordingly, we will make our final determination no later than 135 days after the date of publication of this preliminary determination, pursuant to section 735(a)(2)(A) of the Act.²⁰

¹⁹ See Memorandum to Deputy Assistant Secretary Christian Marsh entitled, “Antidumping Duty Investigation of Truck and Bus Tires from the People's Republic of China: Respondent Selection,” dated April 18, 2016.

²⁰ See also 19 CFR 351.210(e).

U.S. International Trade Commission Notification

In accordance with section 733(f) of the Act, we will notify the U.S. International Trade Commission (ITC) of our affirmative preliminary determination of sales at LTFV. If our final determination in this investigation is affirmative, the ITC will determine before the later of 120 days after the date of this preliminary determination or 45 days after our final determination whether these imports are materially injuring, or threaten material injury to, the U.S. industry.²¹

²¹ See section 735(b)(2) of the Act.

This determination is issued and published in accordance with sections 733(f) and 777(i)(1) of the Act and 19 CFR 351.205(c).

Dated: August 26, 2016.
Paul Piquado,
Assistant Secretary for Enforcement and Compliance.

Appendix I

Scope of the Investigation

The scope of the investigation covers truck and bus tires. Truck and bus tires are new pneumatic tires, of rubber, with a truck or bus size designation. Truck and bus tires covered by this investigation may be tube-type, tubeless, radial, or non-radial.

Subject tires have, at the time of importation, the symbol “DOT” on the sidewall, certifying that the tire conforms to applicable motor vehicle safety standards. Subject tires may also have one of the following suffixes in their tire size designation, which also appear on the sidewall of the tire:

TR—Identifies tires for service on trucks or buses to differentiate them from similarly sized passenger car and light truck tires;

MH—Identifies tires for mobile homes; and

HC—Identifies a 17.5 inch rim diameter code for use on low platform trailers.

All tires with a “TR,” “MH,” or “HC” suffix in their size designations are covered by this investigation regardless of their intended use.

In addition, all tires that lack one of the above suffix markings are included in the scope, regardless of their intended use, as long as the tire is of a size that is among the numerical size designations listed in the “Truck-Bus” section of the Tire and Rim Association Year Book, as updated annually, unless the tire falls within one of the specific exclusions set out below.

Truck and bus tires, whether or not mounted on wheels or rims, are included in the scope. However, if a subject tire is imported mounted on a wheel or rim, only the tire is covered by the scope. Subject merchandise includes truck and bus tires produced in the subject country whether mounted on wheels or rims in the subject country or in a third country. Truck and bus tires are covered whether or not they are accompanied by other parts, e.g., a wheel, rim, axle parts, bolts, nuts, etc. Truck and bus tires that enter attached to a vehicle are not covered by the scope.

Specifically excluded from the scope of this investigation are the following types of tires: (1) Pneumatic tires, of rubber, that are not new, including recycled and retreaded tires; and (2) non-pneumatic tires, such as solid rubber tires.

The subject merchandise is currently classifiable under Harmonized Tariff Schedule of the United States (HTSUS) subheadings: 4011.20.1015 and 4011.20.5020. Tires meeting the scope description may also enter under the following HTSUS subheadings: 4011.99.4520, 4011.99.4590, 4011.99.8520, 4011.99.8590, 8708.70.4530, 8708.70.6030, and 8708.70.6060. On August 26, 2016, the Department included HTSUS subheadings 4011.69.0020, 4011.69.0090, and 8716.90.5059 to the case reference files, pursuant to requests by U.S. Customs and Border Protection and the petitioner.²²

²² See Memorandum to the File entitled, “Requests from Customs and Border Protection and the Petitioner to Update the ACE Case Reference File,” dated August 26, 2016.

While HTSUS subheadings are provided for convenience and for customs purposes, the written description of the subject merchandise is dispositive.

Appendix II

List of Topics Discussed in the Preliminary Decision Memorandum

I. Summary

II. Background

III. Selection of Respondents

IV. Period of Investigation

V. Scope Comments

VI. Scope of the Investigation

VII. Product Characteristics

VIII. Critical Circumstances

IX. Discussion of the Methodology

A. Non-Market Economy Country

B. Surrogate Country

C. Surrogate Value Comments

D. Separate Rates

E. Dumping Margin for the Separate Rate Companies

F. Combination Rates

G. The PRC-Wide Entity

H. Application of Facts Available and Adverse Inferences

I. Date of Sale

J. Fair Value Comparisons

K. Export Price

L. Normal Value

M. Factor Valuation Methodology

N. Currency Conversion

X. Adjustment Under Section 777A(F) of the Act

XI. Adjustment to Cash Deposit Rate for Export Subsidies

XII. Verification

XIII. U.S. ITC Notification

XIV. Conclusion

[FR Doc. 2016-21346 Filed 9-2-16; 8:45 am]

BILLING CODE 3510-DS-P